CHEMICAL SAFETY AND HAZARD INVESTIGATION BOARD

Sunshine Act Meeting

The United States Chemical Safety and Hazard Investigation Board announces that it will convene a Public Meeting beginning at 9:30 a.m. local time on November 8, 2000, at 2175 K Street, Second floor (Conference rooms of the Medical Society of the District of Columbia) Washington, DC.

Topics will include:

1. Presentation of recommendations for the CSB investigation into the March 4, 1998, incident at a Sonat Incorporated crude oil and natural gas production and separation facility near Pitkin, Louisiana.

2. Update on the recommendations resulting from the Board investigation into an incident at the Morton International, Inc. Plant in Paterson, New Jersey on April 8, 1998.

3. Update on the CSB investigation into the February 23, 1999, fire that occurred at the fractionator tower in the 50 crude oil processing unit at the Tosco “Avon” refinery in Martinez, California.

4. Update on review of open investigation files (Independent Fireworks, Sonat II, Equilon, Concept Sciences, and Condea Vista).

5. Update on the CSB Hiring Plan Initiative.

6. Board Initiatives with other Federal agencies;

7. Discussion of Board documents (Sonat Investigation Report, CSB five-year Strategic Plan, Memoranda of Understanding with the Agency for Toxic Substances and Disease Registry, and GAO Report—Coordination between various Federal Agencies).

8. CSB budget for FY 2001.

9. CSB Notation memorandums.

10. Update on Board Member activities.

11. Tentative date for next Board meeting.

The meeting will be open to the public. For more information, please contact the Chemical Safety and Hazard Investigation Board's Office of External Relations, (202) 261-7600, or visit our website at: www.csb.gov.

Christopher W. Warner,
General Counsel.

[FR Doc. 00-27847 Filed 10-25-00; 4:28 pm]

BILLING CODE 6350-01-U